DEPARTMENT OF ENERGY

Agency Information Collection Extension

AGENCY: U.S. Department of Energy.

ACTION: Notice of request for comments.

SUMMARY: The Department of Energy (DOE) invites public comment on a proposed collection of information that DOE is developing for submission to the Office of Management and Budget (OMB) pursuant to the Paperwork Reduction Act of 1995.

DATES: Comments regarding this proposed information collection must be received on or before June 7, 2022. If you anticipate any difficulty in submitting comments within that period, contact the person listed in the FOR FURTHER INFORMATION CONTACT section as soon as possible.

ADDRESSES: Written comments may be sent by email to haleusurvey@hq.doe.gov.

FOR FURTHER INFORMATION CONTACT: Michael Reim, michael.reim@nuclear.energy.gov, 202-748-3383.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-New.

(2) Information Collection Request Titled: Survey of High-Assay, Low-Enriched Uranium (HALEU) Needs for Civilian Domestic Research, Development, Demonstration, and Commercial Use.

(3) Type of Review: New.

(4) Purpose: The purpose of this survey is to inform the planning and development of a Department of Energy (DOE) HALEU Availability Program. Section 2001 of The Energy Act of 2020 (Pub. L. 116-260, Dec. 27, 2020) directs the Secretary to establish and carry out, through the Office of Nuclear Energy (NE), a program to support the availability of HALEU for civilian domestic research and development, demonstration, and commercial use. The Act directs multiple actions to facilitate the development of a commercial HALEU supply chain including establishing a consortium of fuel cycle entities to partner with DOE in making HALEU available, and to provide HALEU to consortium members during development of commercial domestic sources. NE is developing plans to establish the HALEU Availability Program to implement these and other directed actions, including those related to HALEU fuel fabrication, enrichment, and transportation.

(5) Annual Estimated Number of Respondents: 50.

(6) Annual Estimated Number of Total Responses: 50.

(7) Annual Estimated Number of Burden Hours: 4.

(8) Annual Estimated Reporting and Recordkeeping Cost Burden: $350.

Statutory Authority: Section 2001 of The Energy Act of 2020 (Pub. L. 116-260, Dec. 27, 2020).

Signing Authority

This document of the Department of Energy was signed on April 4, 2022, by Sal J. Golub, Acting Deputy Assistant Secretary for Nuclear Fuel Cycle and Supply Chain, Office of Nuclear Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 5, 2022.
Treena V. Garrett,
Federal Register Liaison Officer, U.S. Department of Energy.

[FR Doc. 2022-07545 Filed 4-7-22; 8:45 am]

BILLING CODE 6450-01-P